DEPARTMENT OF DEFENSE

Department of the Air Force

[Docket ID USAF-2014-0009]

Privacy Act of 1974; System of Records

AGENCY: Department of the Air Force, DoD.

ACTION: Notice to alter a System of Records.

SUMMARY: The Department of the Air Force proposes to alter a system of records notice, F036 AF PC M, entitled “Officer Promotion and Appointment” in its existing inventory of records systems subject to the Privacy Act of 1974, as amended. This system will be used to ensure completeness, legality, and processing of the timeliness actions required for promotion or to delay or disqualify the officer's promotion; and to remove individual's name from the promotion list.

DATES: Comments will be accepted on or before May 9, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office Web site at http://dpclo.defense.gov/.

The proposed systems reports, as required by 5 U.S.C. 552a(r) of the Privacy Act of 1974, as amended, were submitted on March 28, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: April 4, 2014.
Aaron Siegel,
Alternate OSD Federal Register Liaison Officer, Department of Defense.

F036 AF PC M

System name:

Officer Promotion and Appointment (June 11, 1997, 62 FR 31793).

Changes:

System identifier:

Delete entry and replace with “F036 AFPC S.”

System name:

Delete entry and replace with “Officer Promotion Propriety Actions.”

System location:

Delete entry and replace with “Headquarters, Air Force Personnel Center, Directorate of Personnel Services, Officer Promotion Management, 550 C Street West, Suite 8, Randolph Air Force Base, TX 78150-6001.

Defense Information Systems Agency (DISA), Defense Enterprise Computing Center, DISA Ogden, Building 891, Hill AFB, UT 84056-5824.”

Categories of individuals covered by the system:

Delete entry and replace with “Air Force active duty officers selected/nonselected for active duty promotion; officers projected as eligible for promotion.”

Categories of records in the system:

Delete entry and replace with “Name, Social Security Number (SSN), Department of Defense Identification Number (DoD ID Number), source of commission, date of Regular Air Force acceptance, date of birth, promotion, category (line, medical corps, etc.), temporary grade history, dates of rank, any commissioned service dates; removal actions and delaying actions.”

Authority for maintenance of the system:

Delete entry and replace with “10 U.S.C. 8013, Secretary of the Air Force; 10 U.S.C. 36, Promotion, Separation and Involuntary Retirement of Officers on the Active Duty List; Department of Defense Instruction 1320.14, Commissioned Officer Promotion Program; Air Force Policy Directive 36-25, Military Promotion and Demotion; Air Force Instruction 36-2501, Officer Promotions and Selective Continuation; and E.O. 9397 (SSN), as amended.”

Purpose(s):

Delete entry and replace with “To ensure completeness, legality, and processing the timeliness of actions required for promotion or to delay a promotion or disqualify the officer's promotion; and to remove individual's name from the promotion list.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of systems of records notices may apply to this system.”

Policies and practices for storing, retrieving, accessing, retaining, and disposing of records in the system:

Storage:

Delete entry and replace with “Paper records and electronic storage media.”

Retrievability:

Delete entry and replace with “Retrieved by name, SSN and/or DoD ID number.”

Safeguards:

Delete entry and replace with “Records are accessed by the custodian of the record system and by person(s) responsible for servicing the record system in the performance of their official duties that are properly screened and cleared for need-to-know. Records are stored electronically and/or in locked cabinets or rooms. Electronic media is accessed by a Common Access Card (CAC). Access to the building is controlled by Security Access Badge.”

Retention and disposal:

Delete entry and replace with “Paper records are destroyed five years after case is closed. Electronic records are destroyed when agency determines they are superseded, obsolete, or no longer needed for administrative, legal, audit, or other operational purposes. Paper records are destroyed by tearing into pieces, shredding, pulping, macerating, or burning. Electronic records are destroyed by erasing, deleting, or overwriting.”

System manager(s) and address:

Delete entry and replace with “Assistant Deputy Chief of Staff/Manpower and Personnel, 550 C Street West, Randolph Air Force Base, TX 78150-6001.

Defense Information Systems Agency (DISA), Defense Enterprise Computing Center, DISA Ogden, Building 891, Hill AFB, UT 84056-5824.”

Notification procedure:

Delete entry and replace with “Individuals seeking to determine whether information about themselves is contained in this system should address written inquiries to the system manager or visit agency officials at the respective system location.

Headquarters, Air Force Personnel Center, Directorate of Personnel Services, Officer Promotion Management, 550 C Street West, Suite 8, Randolph Air Force Base, TX 78150-6001.

Defense Information Systems Agency (DISA), Defense Enterprise Computing Center, DISA Ogden, Building 891, Hill AFB, UT 84056-5824.

For verification purposes, individual should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to records about themselves contained in this system should address written inquiries to the system manager or to agency officials at the respective system location.

Headquarters, Air Force Personnel Center, Directorate of Personnel Services, Officer Promotion Management, 550 C Street West, Suite 8, Randolph Air Force Base, TX 78150-6001.

Defense Information Systems Agency (DISA), Defense Enterprise Computing Center, DISA Ogden, Building 891, Hill AFB, UT 84056-5824.

For verification purposes, individual should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Air Force rules for accessing records, contesting contents, and appealing initial agency determinations are published in Air Force Instruction 33-332, Air Force Privacy Program; 32 CFR part 806b; or may be obtained from the system manager.”

Record source categories:

Delete entry and replace with “Data is extracted from the Headquarters Air Force Master Personnel File; Headquarters Air Force and major command officer selection folders; special orders; oath of office signed by the individual; memorandums from the Secretary of the Air Force Board for Correction of Military Records; selection board reports; and official correspondence submitted by the individual.”

* * * * *

[FR Doc. 2014-07910 Filed 4-8-14; 8:45 am]

BILLING CODE 5001-06-P